DEPARTMENT OF AGRICULTURE

Farm Service Agency

Public Meetings of Advisory Committee on Beginning Farmers and Ranchers

AGENCY: Farm Service Agency, USDA.

ACTION: Notice of public meetings.

SUMMARY: In accordance with the Federal Advisory Committee Act, 5 U.S.C. App. II, the Farm Service Agency (FSA) is issuing this notice to advise the public that meetings of the Advisory Committee on Beginning Farmers and Ranchers (Committee) will be held to discuss various beginning farmer issues.

DATES: The public meetings will be held August 8-9, 2005. The first meeting, on August 8, 2005, will start at 8:30 a.m. and end at 5:30 p.m. The second meeting, on August 9, 2005, will begin at 8 a.m. and end by 4 p.m. All times noted are central standard time (c.s.t.).

ADDRESSES: All meetings will be held at the Omaha Hilton, 1001 Cass Street, Omaha, Nebraska, telephone (402) 998-3400. Written requests to make oral presentations must be sent to: Mark Falcone, Designated Federal Official for the Advisory Committee on Beginning Farmers and Ranchers, Farm Service Agency, U.S. Department of Agriculture, 1400 Independence Avenue, SW., STOP 0522, Washington, DC 20250-0522; telephone (202) 720-1632; FAX (202) 690-1117; e-mail: mark.falcone@wdc.usda.gov.

FOR FURTHER INFORMATION CONTACT: Mark Falcone at (202) 720-1632.

SUPPLEMENTARY INFORMATION: Section 5 of the Agricultural Credit Improvement Act of 1992 (Pub. L. 102-554) required the Secretary of Agriculture (the Secretary) to establish the Committee for the purpose of advising the Secretary on the following:

(1) The development of a program of coordinated financial assistance to qualified beginning farmers and ranchers required by section 309(i) of the Consolidated Farm and Rural Development Act (7 U.S.C. 1929). Under the program, Federal and State beginning farmer programs provide financial assistance to beginning farmers and ranchers;

(2) Methods of maximizing the number of new farming and ranching opportunities created through the program;

(3) Methods of encouraging States to participate in the program;

(4) The administration of the program; and

(5) Other methods of creating new farming or ranching opportunities.

The Committee meets at least once a year and all meetings are open to the public. The duration of the Committee is indefinite. Earlier meetings of the Committee, beginning in 1999, provided an opportunity for members to exchange ideas on ways to increase opportunities for beginning farmers and ranchers. Members discussed various issues and drafted numerous recommendations, which were provided to the Secretary.

Agenda items for the August 2005 meetings include:

(1) The Secretary of Agriculture's remarks to the National Association of Farm Broadcasters on May 2, 2005, and his question as to whether enough is being done to encourage and support the next generation of farmers and people who are interested in starting out in production agriculture;

(2) A discussion between the President of the National State Departments of Agriculture and committee members concerning state beginning farmer programs;

(3) Research conducted and demographic information on farm succession (transferring the family farm to the next generation);

(4) Opportunities for beginning farmers and ranchers to purchase some of the land currently in the Department's Conservation Reserve Program (CRP) that will become available in the next few years due to contracts expiring;

(5) Farm Credit Services of America's (Decorah, Iowa) Young and Beginning Farmer program;

(6) FSA's beginning farmer programs; and

(7) Risk Management Education Programs concerning beginning farmers and ranchers.

Attendance is open to all interested persons but limited to space available. Anyone wishing to make an oral statement should submit a request in writing (letter, fax, or e-mail) to Mark Falcone at the above address. Statements should be received no later than August 2, 2005. Requests should include the name and affiliation of the individual who will make the presentation and an outline of the issues to be addressed. The floor will be open to oral presentations beginning at 1:15 p.m. CST on August 8, 2005.

Comments will be limited to 5 minutes, and presenters will be approved on a first-come, first-served basis.

Persons with disabilities who require special accommodations to attend or participate in the meetings should contact Mark Falcone by August 2, 2005.

Signed in Washington, DC, on July 5, 2005.
James R. Little,
Administrator, Farm Service Agency.

[FR Doc. 05-14511 Filed 7-21-05; 8:45 am]

BILLING CODE 3410-05-P